DEPARTMENT OF HOMELAND SECURITY

[Docket No. DHS-2009-0049]

Homeland Security Advisory Council

AGENCY: The Office of Policy, DHS.

ACTION: Committee Management; Notice of Partially Closed Federal Advisory Committee Meeting.

SUMMARY: The Homeland Security Advisory Council (HSAC) will meet on June 5, 2009, in Albuquerque, New Mexico. The meeting will be partially closed to the public.

DATES: The HSAC will meet June 5, 2009, from 10 a.m. to 3 p.m. The meeting will be closed from 12:20 p.m. to 3 p.m.

ADDRESSES: The open portion of the meeting will be held at the University of New Mexico Student Union, Ballroom B—main campus, in Albuquerque, New Mexico. Requests to have written material distributed to each member of the committee prior to the meeting should reach the contact person at the address below by May 29, 2009. Comments must be identified by Docket number DHS-2009-0049 and may be submitted by one of the following methods:

• Federal eRulemaking Portal: http://www.regulations.gov. Follow the instructions for submitting comments.

• E-mail: HSAC@dhs.gov. Include the docket number in the subject line of the message.

• Fax: 202-282-9207.

• Mail: Homeland Security Advisory Council, 245 Murray Drive, SW., Building 410, Mailstop 0850, Washington, DC 20528.

Instructions: All submissions received must include the words “Department of Homeland Security” and the docket number for this action. Comments received will be posted without alteration at www.regulations.gov, including any personal information provided.

Docket: For access to the docket to read background documents or comments received by the HSAC, go to http://www.regulations.gov.

FOR FURTHER INFORMATION CONTACT: Homeland Security Advisory Council, (202) 447-3135, HSAC@dhs.gov.

SUPPLEMENTARY INFORMATION: Notice of this meeting is given under the Federal Advisory Committee Act, 5 U.S.C. App. 2. The HSAC provides independent advice to the Secretary of the Department of Homeland Security to aide in the creation and implementation of critical and actionable policies and capabilities across the spectrum of homeland security operations. The HSAC periodically reports, as requested, to the Secretary, on such matters. The HSAC serves as the Secretary's primary advisory body with the goal of providing strategic, timely and actionable advice.

The HSAC will meet for the purpose of receiving briefings and updates from DHS principals on the current status of the HSAC, a threat assessment and intelligence briefing focused on border security, internal DHS management directives and the successes and challenges of the DHS transition. The meeting will also include information briefings of the Department's sensitive processes including law enforcement and transportation security procedures. HSAC members will receive a classified intelligence briefing during the closed session.

Basis for Closure: This meeting will include updates on operational challenges, intelligence briefings, and pre-decisional policies from various DHS Components, including: various State and local senior officials including the office of International Affairs, Immigration and Customs Enforcement as well as Customs and Border Protection. The briefings will include information on sensitive homeland security procedures and the capabilities of the Department of Homeland Security Components.

In accordance with section 10(d) of the Federal Advisory Committee Act, it has been determined that this HSAC meeting concerns matters that “disclose investigative techniques and procedures” under 5 U.S.C. 552b(c)(7)(E) and are “likely to significantly frustrate implementation of a proposed agency action” within the meaning of 5 U.S.C. 552b(c)(9)(B). Discussion of ongoing investigations with Department of Homeland Security enforcement Components and outside law enforcement partners fall within the meaning of 5 U.S.C 552b(7)(E) insofar as they will “disclose investigative techniques and procedures.” Additionally, release of information presented during the briefings and the nature of the discussion could lead to premature disclosure of information on Department of Homeland Security actions that would be “likely to significantly frustrate implementation of a proposed agency action.” Therefore, the portion of the meeting of the HSAC from 12:20 p.m. to 3 p.m. will be closed to the public.

Public Attendance: Members of the public may register to attend the public session on a first-come, first-served basis per the procedures that follow. For security reasons, we request that any member of the public wishing to attend the public session provide his or her full legal name, date of birth and contact information no later than 5 p.m. EST on May 31, 2009, to the HSAC via e-mail at HSAC@dhs.gov or via phone at (202) 447-3135. Photo identification may be required for entry into the public session. Registration begins at 9 a.m. Those attending the public session of the meeting must be present and seated by 10 a.m. From 10:15 a.m. to 12 noon, the HSAC will meet to be sworn in and receive their initial briefing from the Secretary on their role within her administration and receive updates on the Southwest Border and the HSAC's Quadrennial Review Advisory Committee.

Identification for Services for Individuals with Disabilities: For information on facilities or services for individuals with disabilities, or to request special assistant at the meeting, contact the HSAC as soon as possible.

Dated: May 1, 2009.
Richard C. Barth,
Acting Principal Deputy Assistant Secretary for Policy, Department of Homeland Security.

[FR Doc. E9-10492 Filed 5-5-09; 8:45 am]

BILLING CODE 9110-9B-P